SECURITIES AND EXCHANGE COMMISSION

Submission for OMB Review; Comment Request

Upon Written Request; Copies Available From: Securities and Exchange Commission, Office of Filings and Information Services, Washington, DC 20549.

Extension:

Industry Guides, OMB Control No. 3235-0069, SEC File No. 270-069.

Notice of Exempt Roll-Up Preliminary Communication, OMB Control No. 3235-0452, SEC File No. 270-396.

Notice is hereby given that, pursuant to the Paperwork Reduction Act of 1995 (44 U.S.C. 3501 et seq.) the Securities and Exchange Commission (“Commission”) has submitted to the Office of Management and Budget requests for extension of the previously approved collections of information discussed below.

Industries Guides (OMB 3235-0069; SEC File No. 270-069) are used by registrants in certain specified industries as disclosure guidelines to be followed in disclosing information to investors in Securities Act and Exchange Act registration statements and certain other Exchange Act filings. The information filed with the Commission using the Industry Guides permits verification of compliance with securities law requirements and assures the public availability and dissemination of such information. The information required by the Industry Guides is filed on occasion and is mandatory. All information is provided to the public. The Commission estimates for administrative purposes only that the total annual burden with respect to the Industry Guides is one hour. The Industry Guides do not directly impose any disclosure burden.

A Notice of Exempt Preliminary Roll-Up Communication (“Notice”) provides information regarding ownership interests and any potential conflicts of interest to be included in statements submitted by or on behalf of a person pursuant to §§ 240.14a-2(b)(4) and 240.14a-6(n). The Notice is filed on occasion and the information required is mandatory. All information is provided to the public upon request. The Notice takes approximately .25 hours per response and his filed by 4 respondents for a total 1 annual burden hour.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) R. Corey Booth, Director/Chief Information Officer, Office of Information Technology, Securities and Exchange Commission, 450 Fifth Street, NW., Washington, DC 20549. Comments must be submitted to OMB within 30 days of this notice.

Dated: February 13, 2004.
Margaret H. McFarland,
Deputy Secretary.

[FR Doc. 04-3943 Filed 2-23-04; 8:45 am]

BILLING CODE 8010-01-P